DEPARTMENT OF ENERGY

Proposed Agency Information Collection

AGENCY: U.S. Department of Energy.

ACTION: Notice and request for comments.

SUMMARY: The Department of Energy (DOE) invites public comment on DOE's request the Office of Management and Budget (OMB) to extend for three years the emergency Information Collection Request Title: OE Recovery Act Financial Assistance Grants, OMB Control No. 1910-5149 that DOE is submitting to OMB pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before August 23, 2010. If you anticipate difficulty in submitting comments within that period, contact the person listed in ADDRESSES as soon as possible.

ADDRESSES: Written comments may be sent to:

Matthew Grosso, Program Analyst, U.S. Department of Energy, OE/Forrestal Building, 1000 Independence Ave., SW., Washington, DC 20585, or by fax at 202-586-5860, or by e-mail at matthew.grosso@hq.doe.gov; and

DOE Desk Officer, Office of Information and Regulatory Affairs, Office of Management and Budget, New Executive Office Building, Room 10102, 725 17th Street, NW., Washington, DC 20503.

FOR FURTHER INFORMATION CONTACT: Requests for additional information or copies of the information collection instrument and instructions should be directed to Matthew Grosso at matthew.grosso@hq.doe.gov, or http://www.oe.energy.gov/recovery/1285.htm.

SUPPLEMENTARY INFORMATION: This information collection request contains: (1) OMB No. 1910-5149; (2) Information Collection Request Title: OE Recovery Act Financial Assistance Grants; (3) Type of Request: Three-year extension of a prior emergency request; (4) Purpose: To collect information on the status of grantee activities, expenditures, and results, to ensure that program funds are being used appropriately, effectively and expeditiously (especially important for Recovery Act funds); (5) Annual Estimated Number of Respondents: 132; (6) Annual Estimated Number of Total Responses: 1,656; (7) Annual Estimated Number of Burden Hours: 3,312; (8) Annual Estimated Reporting and Recordkeeping Cost Burden: $621,000 for the first year, $138,000 each subsequent year.

Authority: Title V, Subtitle E of the Energy Independence and Security Act (EISA), Pub. L. 110-140.

Issued in Washington, DC on July 19, 2010.
Terri T. Lee,
Chief Operating Officer, Electricity Delivery and Energy Reliability.

[FR Doc. 2010-17893 Filed 7-21-10; 8:45 am]

BILLING CODE 6450-01-P